FEDERAL MARITIME COMMISSION

Correction to 60-Day Notice Requesting Extension of a Currently Approved Information Collection for Negotiated Rate Arrangements

AGENCY: Federal Maritime Commission.

ACTION: Correction; extension of comment period.

SUMMARY: The Federal Maritime Commission (The Commission) is issuing a correction to the 60-day Public Comment Request notice to extend Information Collection Request (ICR) 3072-0071 published in the Federal Register on December 7, 2021. The notice contains an incorrect annual burden estimate for the Information Collection. Because this correction and extension notice updates the annual respondents and the total annual burden hours in the previously published 60-day notice, the Commission is extending the previous comment period for ICR 3072-0071 for an additional 30 days. The Commission is also extending the comment period for an additional 30 days for ICR 3072-0070, though there are no errors with that previously published 60-day notice.

DATES: Comments are due by March 11, 2022.

ADDRESSES: Submit comments for the proposed information collection requests to Lucille L. Marvin, Managing Director at email: omd@fmc.gov. Please refer to the assigned OMB control number on any correspondence submitted. The FMC will summarize any comments received in response to this notice in a subsequent notice and include them in its information collection submission to OMB for approval.

FOR FURTHER INFORMATION CONTACT: Copies of the information collections and instructions, or copies of any comments received, may be obtained by contacting Lucille Marvin, Managing Director, at omd@fmc.gov or 202-523-5800.

SUPPLEMENTARY INFORMATION: The Commission published the required 60-day notice for ICR 3072-0071 in the Federal Register on December 7, 2021, which provided the incorrect number of annual respondents and the incorrect total annual burden for this notice. See 86 FR 69254 (December 7, 2021). The number of annual respondents was reported to be 194, and the total annual burden was reported to be 247 hours. The correct number of annual respondents is 2,129 and the correct total annual burden is 2,402 hours. Additionally, since publication of the 60-day notice on December 7, 2021, the legal authority to conduct this collection was extended through 30 days after this publication.

William Cody,
Secretary.

[FR Doc. 2022-02656 Filed 2-8-22; 8:45 am]

BILLING CODE 6730-02-P